ENVIRONMENTAL PROTECTION AGENCY

40 CFR Part 1065

Engine-Testing Procedures

CFR Correction

In Title 40 of the Code of Federal Regulations, Part 1060 to End, revised as of July 1, 2018, on page 230, in § 1065.670, paragraph (a) introductory text is reinstated to read as follows:

§ 1065.670 NOX intake-air humidity and temperature corrections.

* * * * *

(a) For compression-ignition engines, correct for intake-air humidity using the following equation:

* * * * *

[FR Doc. 2019-04792 Filed 3-13-19; 8:45 am]

BILLING CODE 1301-00-D